DEPARTMENT OF HOMELAND SECURITY

Federal Emergency Management Agency

[Docket ID: FEMA-2025-0013; OMB No. 1660-0086]

Agency Information Collection Activities: Proposed Collection, Comment Request; National Flood Insurance Program—Ask the Advocate Web Form

AGENCY: Federal Emergency Management Agency, Department of Homeland Security.

ACTION: 60-Day notice of revision and request for comments.

SUMMARY: The Federal Emergency Management Agency (FEMA), as part of its continuing effort to reduce paperwork and respondent burden, invites the general public to take this opportunity to comment on a revision of a currently approved information collection. In accordance with the requirements of the Paperwork Reduction Act of 1995, this notice seeks comments concerning the Office of the Flood Insurance Advocate's (OFIA) Ask the Advocate web form and the removal of two instruments that are no longer needed.

DATES: Comments must be submitted on or before August 5, 2025.

ADDRESSES: To avoid duplicate submissions to the docket, please submit comments at http://www.regulations.gov under Docket ID FEMA-2025-0013. Follow the instructions for submitting comments.

All submissions received must include the Agency name and Docket ID. Regardless of the method used to submitting comments or material, all submissions will be posted, without change, to the Federal eRulemaking Portal at http://www.regulations.gov, and will include any personal information you provide. Therefore, submitting this information makes it public. You may wish to read the Privacy and Security Notice that is available via a link on the homepage of http://www.regulations.gov.

FOR FURTHER INFORMATION CONTACT: Joe Cecil, Advocate Representative Team Lead, Office of the Flood Insurance Advocate, National Flood Insurance Program, Federal Emergency Management Agency, at (202) 701-3465 or Joseph.Cecil@fema.dhs.gov. You may contact the Information Management Division for copies of the proposed collection of information at email address: FEMA-Information-Collections-Management@fema.dhs.gov.

SUPPLEMENTARY INFORMATION: Section 24 of the Homeowner Flood Insurance Affordability Act of 2014 (Pub. L. 113-89, codified at 42 U.S.C. 4033), requires FEMA to designate a Flood Insurance Advocate that would advocate for the fair treatment of National Flood Insurance Program (NFIP) policyholders and property owners by: (1) providing education and guidance on all aspects of the NFIP, (2) identifying trends affecting the public, and (3) making recommendations for NFIP program improvements to FEMA leadership. Pursuant to this authority, FEMA established the OFIA on December 22, 2014.

Members of the public regularly contact OFIA seeking assistance on the NFIP. OFIA seeks to facilitate the timely and effective management of these inquiries by using a web form on OFIA's web page at https://www.fema.gov/flood-insurance/advocate. The web form allows users to provide information that includes all the data necessary for OFIA to perform its Congressionally-mandated duties and responsibilities.

The Federal Insurance Directorate determined the Mortgage Portfolio Protection Program (MPPP) form is no longer necessary due to the implementation of Risk Rating 2.0 and therefore will not be renewed under this effort. This revision removes both the Financial Assistance/Subsidy Arrangement Notice of Acceptance and MPPP Agreement Receipt for Materials instruments from this information collection, as they are no longer needed. This revision also corrects a technical error within ROCIS that inflates the burden imposed by the remaining FEMA Form FF-206-FY-21-121, Ask the Advocate Web Form.

Collection of Information

Title: National Flood Insurance Program—Ask the Advocate Web Form.

Type of Information Collection: Revision of a currently approved information collection.

OMB Number: 1660-0086.

FEMA Forms: FEMA Form FF-206-FY-21-121, Ask the Advocate Web Form.

Abstract: OFIA advocates for the fair treatment of NFIP policyholders and property owners by providing education and guidance, identify trends that affect the public, and making recommendations for NFIP program improvements. OFIA uses the Ask the Advocate Web Form as an electronic intake instrument to gather the required data for each case.

Affected Public: Individuals or Households; Businesses or other For-Profit.

Estimated Number of Respondents: 1,000.

Estimated Number of Responses: 1,000.

Estimated Total Annual Burden Hours: 83.

Estimated Total Annual Respondent Cost: $3,931.

Estimated Respondents' Operation and Maintenance Costs: $0.

Estimated Respondents' Capital and Start-Up Costs: $0.

Estimated Total Annual Cost to the Federal Government: $39,631.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Russell R. Bard,
Acting Senior Director for Information Management, Office of the Chief Administrative Officer, Mission Support, Federal Emergency Management Agency, Department of Homeland Security.

[FR Doc. 2025-10281 Filed 6-5-25; 8:45 am]

BILLING CODE 9111-52-P